DEPARTMENT OF THE INTERIOR

National Park Service

[NPS-WASO-NAGPRA-16761; PPWOCRADN0-PCU00RP14.R50000]

Notice of Inventory Completion: U.S. Department of the Interior, National Park Service, Organ Pipe Cactus National Monument, Ajo, AZ

AGENCY: National Park Service, Interior.

ACTION: Notice.

SUMMARY: The U.S. Department of the Interior, National Park Service, Organ Pipe Cactus National Monument has completed an inventory of human remains, in consultation with the appropriate Indian tribe or Native Hawaiian organizations, and has determined that there is a cultural affiliation between the human remains and present-day Indian tribes or Native Hawaiian organizations. Lineal descendants or representatives of any Indian tribe or Native Hawaiian organization not identified in this notice that wish to request transfer of control of these human remains should submit a written request to Organ Pipe Cactus National Monument. If no additional requestors come forward, transfer of control of the human remains to the lineal descendants, Indian tribes, or Native Hawaiian organizations stated in this notice may proceed.

DATES: Lineal descendants or representatives of any Indian tribe or Native Hawaiian organization not identified in this notice that wish to request transfer of control of these human remains should submit a written request with information in support of the request to Organ Pipe Cactus National Monument at the address in this notice by November 17, 2014.

ADDRESSES: Brent K. Range, Superintendent, Organ Pipe Cactus National Monument, 10 Organ Pipe Drive, Ajo, AZ 85321-9626, telephone (520) 387-6849, email brent_range@nps.gov.

SUPPLEMENTARY INFORMATION: Notice is here given in accordance with the Native American Graves Protection and Repatriation Act (NAGPRA), 25 U.S.C. 3003, of the completion of an inventory of human remains under the control of the U.S. Department of the Interior, National Park Service, Organ Pipe Cactus National Monument, Ajo, AZ, and in the physical custody of the Arizona State Museum, University of Arizona, Tucson, AZ. The human remains were removed from the vicinity of the Bates Well Ranch Site, Pima County, AZ.

This notice is published as part of the National Park Service's administrative responsibilities under NAGPRA, 25 U.S.C. 3003(d)(3). The determinations in this notice are the sole responsibility of the Superintendent, Organ Pipe Cactus National Monument.

Consultation

A detailed assessment of the human remains was made by Organ Pipe Cactus National Monument and Arizona State Museum professional staff in consultation with representatives of the Ak Chin Indian Community of the Maricopa (Ak Chin) Indian Reservation, Arizona; Gila River Indian Community of the Gila River Indian Reservation, Arizona; Hopi Tribe of Arizona; and Tohono O'odham Nation of Arizona (hereafter referred to as “The Consulted Tribes”).

The following tribes were invited to consult but did not participate: Cocopah Tribe of Arizona; Colorado River Indian Tribes of the Colorado River Indian Reservation, Arizona and California; Fort Mohave Indian Tribe of Arizona, California & Nevada; Pascua Yaqui Tribe of Arizona; Quechan Tribe of the Fort Yuma Indian Reservation, California & Arizona; Salt River Pima-Maricopa Indian Community of the Salt River Reservation, Arizona; and Zuni Tribe of the Zuni Reservation, New Mexico (hereafter referred to as “The Invited Tribes”).

History and Description of the Remains

Between 1951-1952, human remains representing, at minimum, one individual were removed from the vicinity of the Bates Well Ranch Site in Pima County, AZ, during a cooperative archeological project between Arizona State Museum and Organ Pipe Cactus National Monument under the direction of Paul H. Ezell. No known individuals were identified. No associated funerary objects are present.

Based upon the archeological context, Ezell's field notes, and osteological analysis, the cremated human remains have been determined to be Native American dating to A.D. 500-1500. This time range in southern Arizona is commonly known to the archeological community as the Pioneer, Colonial, Sedentary, and Classic Hohokam periods.

A relationship of shared group identity can reasonably be traced between members of the Hohokam culture and the four southern O'odham tribes of Arizona. The O'odham people comprise four Federally recognized Indian tribes (the Ak Chin Indian Community of the Maricopa (Ak Chin) Indian Reservation, Arizona; Gila River Indian Community of the Gila River Indian Reservation, Arizona; Salt River Pima-Maricopa Indian Community of the Salt River Reservation, Arizona; and Tohono O'odham Nation of Arizona) and one Indian group that is not Federally recognized, the Hia C-ed O'odham. An O'odham association with lands lying directly to the west of the Ajo Mountains, including Organ Pipe Cactus National Monument, is documented throughout the historic period and into the 20th century.

O'odham oral histories describe the end time of the Hohokam, when armies gathered and marched on the Great House communities (e.g., Casa Grande, Pueblo Grande) and cast out the Hohokam societies there. The armies then occupied the conquered lands, intermarrying with the remnants of the Hohokam and ultimately becoming the O'odham people. Other evidence of the O'odham-Hohokam connection includes similar settlement patterns, irrigation systems, residence styles, and a possible relationship between modern O'odham kickball games and formal Hohokam ball courts.

A relationship of shared group identity can also reasonably be traced between members of the Hohokam culture and the Hopi Tribe of Arizona. Hopi history is based, in large part, on clan migration narratives. The Hopi consider all of Arizona to be within traditional Hopi lands, i.e., areas in and through which Hopi clans are believed to have migrated in the past. Hopi oral history and the anthropological record show that some clans originated in the Salt-Gila region and were descended from the Hohokam. After the fall of the Great House communities, Hohokam refugees were absorbed into the Hopi culture.

A relationship of shared group identity can also reasonably be traced between members of the Hohokam culture and the Zuni Tribe of the Zuni Reservation, New Mexico. Zuni oral history tells of ancestral migrations and settling throughout this region in their search for the Middle Place of the World (present day Pueblo of Zuni). Elders have identified features in the area, including shrines and petroglyphs, as Zuni. Zuni ancestors left many markers of their passing including trails, habitation sites, campsites, burials, sacred shrines, and rock art.

Determinations Made by Organ Pipe Cactus National Monument

Officials of Organ Pipe Cactus National Monument have determined that:

• Pursuant to 25 U.S.C. 3001(9), the human remains described in this notice represent the physical remains of one individual of Native American ancestry.

• Pursuant to 25 U.S.C. 3001(2), there is a relationship of shared group identity that can be reasonably traced between the Native American human remains and the Ak Chin Indian Community of the Maricopa (Ak Chin) Indian Reservation, Arizona; Gila River Indian Community of the Gila River Indian Reservation, Arizona; Hopi Tribe of Arizona; Salt River Pima-Maricopa Indian Community of the Salt River Reservation, Arizona; Tohono O'odham Nation of Arizona; and Zuni Tribe of the Zuni Reservation, New Mexico.

Additional Requestors and Disposition

Lineal descendants or representatives of any Indian tribe or Native Hawaiian organization not identified in this notice that wish to request transfer of control of these human remains should submit a written request with information in support of the request to Brent K. Range, Superintendent, Organ Pipe Cactus National Monument, 10 Organ Pipe Drive, Ajo, AZ 85321-9626, telephone (520) 387-6849, email brent_range@nps.gov, by November 17, 2014. After that date, if no additional requestors have come forward, transfer of control of the human remains to the Ak Chin Indian Community of the Maricopa (Ak Chin) Indian Reservation, Arizona; Gila River Indian Community of the Gila River Indian Reservation, Arizona; Hopi Tribe of Arizona; Salt River Pima-Maricopa Indian Community of the Salt River Reservation, Arizona; Tohono O'odham Nation of Arizona; and Zuni Tribe of the Zuni Reservation, New Mexico may proceed.

Organ Pipe Cactus National Monument is responsible for notifying The Consulted Tribes and The Invited Tribes that this notice has been published.

Dated: September 22, 2014.
Sherry Hutt,
Manager, National NAGPRA Program.

[FR Doc. 2014-24526 Filed 10-15-14; 8:45 am]

BILLING CODE 4312-50-P